DEPARTMENT OF HOUSING AND URBAN DEVELOPMENT

[Docket No. FR-4579-FA-02]

Announcement of Funding Awards for Fiscal Year 1999 for the Rental Voucher and Rental Certificate Programs

Correction

In notice document 00-8203, beginning on page 17661, in the issue of Tuesday, April 4, 2000, make the following corrections:

1. On page 17663, in the table, under the heading “Address”, remove “Litigation (Vouchers)”.

2. On page 17664, in the table, under the heading “Address”, remove “Litigation (Vouchers)”.

3. On page 17665, in the table, under the heading “Address”, remove “Litigation (Vouchers)”.

4. On page 17666, in the table, under the heading “Address”, remove “Litigation (Vouchers)”.

5. On page 17668, in the table, under the heading “Address”, remove “Litigation (Vouchers)”.

6. On page 17669, in the table, under the heading “Address”, remove “Litigation (Vouchers)”.

7. On page 17670, in the table, under the heading “Address”,remove “Litigation (Vouchers)”.

[FR Doc. C0-8203 Filed 7-17-00; 8:45 am]

BILLING CODE 1505-01-D CORRECTIONS

NUCLEAR REGULATORY COMMISSION

10 CFR Parts 170 and 171

RIN 3150-AG50

Revision of Fee Schedules; 100% Fee Recovery, FY 2000

Correction

In rule document 00-14496, beginning on page 36946, in the issue of Monday, June 12, 2000, make the following corrections:

1. On page 36953, in the third column, above the table, after “annual fees:” remove “FY 1999 FY 2000”.

2. On page 36954, in Table I, under the heading “Reactor program”

a. In the third line “$98.8” should read “$98.8M”.

b. In the fourth line, “$ 255.3” should read “$ 255.3M“.

c. In the fifth line, “-1” should read “-.1M”.

d. In the sixth line, “ $255.2” should read “ $ 255.2M”.

3. On page 36954, in the table, under the heading “ Materials Program”:

a. In the third line, “$27.9” should read “ $27.9M”.

b. In the fourth and sixth lines, “ $72.2” should read “ $72.2M ”.

§ 171.16 [Corrected]

4. On page 36965, in § 171.16(c)(4), in the second column, in the second line, “2,300” should read $2,300”.

Appendix A [Corrected]

5. On page 36971, in appendix A, in Table 2:

a. Under the heading “Services 3N”, in the third line, add “ 130”.

b. Under the heading “ Industrial radiography 3O”, in the third line, add “ 280”.

c. Under the heading “ Gauges 3P”, in the third line, add “ 80”.

d. Under the heading “Well logging 5A”, in the third line, add “ 320”.

[FR Doc. C0-14496 Filed 7-17-00; 8:45 am]

BILLING CODE 1505-01-D CORRECTIONS

SMALL BUSINESS ADMINISTRATION

13 CFR Part 121

Small Business Size Standards; Help Supply Services

Correction

In rule document 00-14015 beginning on page 35810 in the issue of Tuesday, June 6, 2000, make the following corrections:

§121.201 [Corrected]

1. On page 35812, in the third column, the heading for section 121.201 should be moved down so that it is above amendatory instruction 3.

2. On page 35813, in the first column, in the table, in the column for “Size standards in number of employees or millions of dollars”, “10.0” should read “$10.0”.

[FR Doc. C0-14015 Filed 7-17-00; 8:45 am]

BILLING CODE 1505-01-D CORRECTIONS

DEPARTMENT OF THE TREASURY

Internal Revenue Service

26 CFR Part 1

[TD 8878]

RIN 1545-AU61

Tax Treatment of Cafeteria Plans

Correction

In rule document 00-5817 beginning on page 15548 in the issue of Thursday, March 23, 2000, make the following correction:

On page 15550, at the end of the first column, footnote 8 should read as follows: “See §1.125-3, published as a proposed rule at 60 FR 66229 (December 21, 1995).”

[FR Doc. C0-5817 Filed 7-17-00; 8:45 am]

BILLING CODE 1505-01-D